ENVIRONMENTAL PROTECTION AGENCY

[EPA-HQ-OW-2024-0454; EPA-HQ-OW-2024-0504; FRL-12587-02-OA]

Two Actions Published by the Environmental Protection Agency With Comment Periods That Close February 24, 2025, and March 17, 2025; Notice of Comment Period Extensions

AGENCY: Environmental Protection Agency (EPA).

ACTION: Notices; extension of comment periods.

SUMMARY: This document extends the comment period for two notices published by the Environmental Protection Agency in the Federal Register on December 26, 2024, and January 15, 2025.

DATES: The comment periods for notice FRL 12023-01-OW (FR 2024-30637) (89 FR 105041, December 26, 2024) and notice FRL-12451-01-OW (FR 2025-00734) (90 FR 3859, January 15, 2025) are extended. Comments for FRL 12023-01-OW now must be received on or before April 25, 2025. Comments for FRL-12451-01-OW now must be received on or before April 16, 2025.

ADDRESSES: You may send comments, identified by appropriate Docket ID number listed in the table below by any of the following methods:

• Federal eRulemaking Portal: https://www.regulations.gov/ (our preferred method). Follow the online instructions for submitting comments.

Instructions: Comments should be submitted to the original docket for the notice specified in the table in the SUPPLEMENTARY INFORMATION section of this document. All submissions received must include the Docket ID No. for the original rulemaking as listed in the table in SUPPLEMENTARY INFORMATION. Comments received may be posted without change to https://www.regulations.gov, including personal information provided.

FOR FURTHER INFORMATION CONTACT: William Nickerson, Director, Office of Regulatory Policy and Management, Office of Policy, Mail code 1804, U.S. Environmental Protection Agency, 1200 Pennsylvania Ave. NW, Washington, DC 20460; (202) 566-0326; nickerson.william@epa.gov.

SUPPLEMENTARY INFORMATION: This document extends the comment period for two actions published on December 26, 2024, and January 15, 2025. Comments for notice FRL 12023-01-OW (89 FR 105041, December 26, 2024) now must be received on or before April 25, 2025; and comments for notice FRL-12451-01-OW (90 FR 3859, January 15, 2025) must now be received on or before April 16, 2025.

Federal Register citation | Title | Publication date | Original comment period end date | Docket ID
89 FR 105041 | Draft National Recommended Ambient Water Quality Criteria for the Protection of Human Health for Perfluorooctanoic Acid, Perfluorooctane Sulfonic Acid, and Perfluorobutane Sulfonic Acid (12023-01-OW) | 12/26/2024 | 2/24/2025 | EPA-HQ-OW-2024-0454
90 FR 3859 | Draft Sewage Sludge Risk Assessment for Perfluorooctanoic Acid (PFOA) and Perfluorooctane Sulfonic Acid (PFOS) (FRL-12451-01-OW) | 1/15/2025 | 3/17/2025 | EPA-HQ-OW-2024-0504

EPA may identify additional actions for reopening or extending comment periods in subsequent notices.

This document extends the public comment period for the notice “Draft National Recommended Ambient Water Quality Criteria for the Protection of Human Health for Perfluorooctanoic Acid, Perfluorooctane Sulfonic Acid, and Perfluorobutane Sulfonic Acid,” published in the Federal Register document of December 26, 2024 (89 FR 105041) (FRL 12023-01-OW), for 60 days. In that document, EPA announced the availability of draft Clean Water Act (CWA) national recommended ambient water quality criteria (AWQC) for the protection of human health for three per- and polyfluoroalkyl substances (PFAS)—perfluorooctanoic acid (PFOA), perfluorooctane sulfonic acid (PFOS), and perfluorobutane sulfonic acid (PFBS)—for a 60-day public comment period. The EPA has developed these draft PFAS national recommended human health criteria (HHC) to reflect the latest scientific information, consistent with current EPA guidance, methods, and longstanding practice. When PFAS national recommended HHC are finalized, they will provide information that States and Tribes may consider when adopting water quality standards.

This document extends the public comment period for the notice “Draft Sewage Sludge Risk Assessment for Perfluorooctanoic Acid (PFOA) and Perfluorooctane Sulfonic Acid (PFOS),” published in the Federal Register document of January 15, 2025 (90 FR 3859) (FRL-12451-01-OW), for 30 days. In that document, EPA announced the availability of the “Draft Sewage Sludge Risk Assessment for Perfluorooctanoic Acid (PFOA) and Perfluorooctane Sulfonic Acid (PFOS)” for a 60-day public comment period. This draft risk assessment reflects the agency's latest scientific understanding of the potential risks to human health and the environment posed by the presence of PFOA and PFOS in sewage sludge that is land applied as a soil conditioner or fertilizer (on agricultural, forested, and other lands), surface disposed, or incinerated. The draft risk assessment focuses on those living on or near impacted sites or those that rely primarily on their products (e.g., food crops, animal products, drinking water); the draft risk assessment does not model risks for the general public. This draft risk assessment underwent independent external peer review, and the EPA revised the document accordingly. Once finalized, the risk assessment will provide information on risk from use or disposal of sewage sludge and will inform the EPA's potential future regulatory actions under the Clean Water Act (CWA).

EPA is extending these comment periods to allow interested parties additional time to thoroughly review and analyze how these notices may impact parties potentially subject to them. Comments previously submitted need not be resubmitted as they are already incorporated into the public record and will be considered in the final action as appropriate. Where appropriate, the Agency may consider further extending the comment period for the above referenced actions.

To submit comments, or access the docket, please follow the detailed instructions provided under ADDRESSES. If you have questions, consult the technical person listed under FOR FURTHER INFORMATION CONTACT.

Lee Zeldin,
Administrator.

[FR Doc. 2025-02910 Filed 2-20-25; 8:45 am]

BILLING CODE 6560-50-P